DEPARTMENT OF TRANSPORTATION

Federal Aviation Administration

Noise Exposure Map Notice: Denver International Airport, Denver, CO

AGENCY: Federal Aviation Administration, DOT.

ACTION: Notice.

SUMMARY: The Federal Aviation Administration (FAA) announces its determination that the noise exposure maps submitted by Denver International Airport (DEN) under the provisions of 49 U.S.C. 47503(a) and 14 CFR part 150 are in compliance with applicable requirements.

EFFECTIVE DATES: The effective date of the FAA's determination on the Denver International Airport noise exposure maps is August 5, 2002.

FOR FURTHER INFORMATION CONTACT: Dennis Ossenkop, FAA, Airports Division, ANM-611, 1601 Lind Avenue, SW., Renton. Washington, 98055-4056.

SUPPLEMENTARY INFORMATION: This notice announces that the FAA finds that the noise exposure maps for Denver International Airport are in compliance with applicable requirements of part 150, effective August 5, 2002.

Under 49 U.S.C. 47503(a), an airport operator may submit to the FAA a noise exposure map that meets applicable regulations and which depicts non-compatible land uses as of the date of submission of such maps, a description of projected aircraft operations, and the ways in which such operations will affect such maps. 49 U.S.C. 47503(a)(1) requires such maps to be developed in consultation with interested and affected parties in the local community, government agencies and persons using the airport.

An airport operator who has submitted a noise exposure map that has been found by FAA to be in compliance with the requirements of Federal Aviation Regulation (FAR) part 150, promulgated pursuant to 49 U.S.C. 47503(a), may submit a noise compatibility program for FAA approval which sets forth the measures the operator has taken or proposes for the reduction of existing non-compatible uses and for the prevention of the introduction of additional non-compatible uses. The FAA has completed its review of the noise exposure maps and related descriptions submitted by DEN. The specific maps under consideration are Figures 5-1 and 5-2 in the submission. The FAA has determined that these maps for Denver International Airport are in compliance with applicable requirements. This determination is effective on August 5, 2002. FAA's determination on an airport operator's noise exposure maps is limited to the determination that the maps were developed in accordance with the procedures contained in Appendix A of FAR part 150. Such determination does not constitute approval of the applicant's data, information or plans, or a commitment to approve a noise compatibility program or to fund the implementation of that program.

If questions arise concerning the precise relationship of specific properties to noise exposure contours depicted on noise exposure maps submitted under 49 U.S.C. 47503, it should be noted that the FAA is not involved in any way in determining the relative locations of specific properties with regard to the depicted noise contours, or in interpreting the noise exposure maps to resolve questions concerning, for example, which properties should be covered by the provisions of 49 U.S.C. 47507. These functions are inseparable from the ultimate land use control and planning responsibilities of local government. These local responsibilities are not changed in any way under part 150 or through FAA's review of noise exposure maps. Therefore, the responsibility for the detailed overlaying of noise exposure contours onto the maps depicting properties on the surface rests exclusively with the airport operator which submitted those maps, or with those public agencies and planning agencies with which consultation is required under 49 U.S.C. 47503(a)(1). The FAA has relied on the certification by the airport operator, under section 150.21 of the FAR part 150, that the statutorily required consultation has been accomplished.

Copies of the noise exposure maps and of the FAA's evaluation of the maps are available for examination at the following locations:

Federal Aviation Administration, Independence Avenue, SW., Room 615, Washington, DC.

Federal Aviation Administration, Airports Division, ANM-600, 1601 Lind Avenue, SW., Renton, Washington, 98055-4056.

Denver Airports District Office, 26805 E. 68th Ave., Suite 224, Denver, CO 80249-6361.

Denver International Airport, Airport Office Building, 8500 Pena Boulevard, Denver, Colorado.

Questions may be directed to the individual named above under the heading, FOR FURTHER INFORMATION CONTACT.

Issued in Renton, Washington, August 5, 2002.
Lowell H. Johnson,
Manager, Airports Division, ANM-600, Northwest Mountain Region.

[FR Doc. 02-20899 Filed 8-15-02; 8:45 am]

BILLING CODE 4910-13-M